DEPARTMENT OF TRANSPORTATION

Federal Aviation Administration

Notice of intent To Rule on Application 02-06-C-00-DLH To Impose and Use the Revenue From a Passenger Facility Charge (PFC) at Duluth International Airport, Duluth, MN

AGENCY: Federal Aviation Administration (FAA), DOT.

ACTION: Notice of Intent to Rule on Application.

SUMMARY: The FAA proposes to rule and invites public comment on the application to impose and use the revenue from a PFC at Duluth International Airport under the provisions of the 49 U.S.C. 40117 and Part 158 of the Federal Aviation Regulations (14 CFR Part 158).

DATES: Comments must be received on or before November 25, 2002.

ADDRESSES: Comments on this application may be mailed or delivered in triplicate to the FAA at the following address: Minneapolis Airports District Office, 6020 28th Avenue South, Room 102, Minneapolis, Minnesota 55450-2706.

In addition, one copy of any comments submitted to the FAA must be mailed or delivered to Mr. Brian D. Ryks, Executive Director, of the Duluth Airport Authority at the following address: Duluth Airport Authority, Duluth International Airport, 4701 Grinden Drive, Duluth, MN 55811.

Air carriers and foreign air carriers may submit copies of written comments previously provided to the Duluth Airport Authority under section 158.23 of part 158.

FOR FURTHER INFORMATION CONTACT: Mr. Gordon Nelson, Program Manager, Federal Aviation Administration, Airports District Office, 6020 28th Avenue South, Room 102, Minneapolis, Minnesota 55450-2706, telephone (612) 713-4358. The application may be reviewed in person at this same location.

SUPPLEMENTARY INFORMATION: The FAA proposes to rule and invites public comment on the application to impose and use the revenue from a PFC at Duluth International Airport under the provisions of the 49 U.S.C. 40117 and Part 158 of the Federal Aviation Regulations (14 CFR part 158).

On September 23, 2002, the FAA determined that the application to impose and use the revenue form a PFC submitted by the Duluth Airport Authority was substantially complete within the requirements of section 158.25 of Part 158. The FAA will approve or disapprove the application, in whole or in part, no later than December 28, 2002.

The following is a brief overview of the application.

Proposed charge effective date: March 1, 2003.

Proposed charge expiration date: November 1, 2004.

Level of the proposed PFC: $4.50.

Total estimated PFC revenue: $901,280.

Brief description of proposed projects: Preparation of Passenger Facility Charge application; purchase replacement snow removal equipment (SRE); construct SRE and material storage maintenance facility.

Class or classes of air carriers, which the public agency has requested, not be required to collect PFCs: Non-scheduled Part 135 Air Taxi/Commercial Operators (ATCO).

Any person may inspect the application in person at the FAA office listed above under FOR FURTHER INFORMATION CONTACT.

In addition, any person may, upon request, inspect the application, notice and other documents germane to the application in person at the Duluth Airport Authority, 4701 Grinden Drive, Duluth, MN.

Issued in Des Plaines, IL, on October 10, 2002.
Mark McClardy,
Manager, Airports Planning/ Programming Branch, Airports Division, Great Lakes Region.

[FR Doc. 02-27178 Filed 10-24-02; 8:45 am]

BILLING CODE 4910-13-M